DEPARTMENT OF THE INTERIOR

Office of the Secretary

[ONRR-2012-0003; DS63602000 DR2000000.PX8000 167D0102R2]

U.S. Extractive Industries Transparency Initiative Multi-Stakeholder Group (USEITI MSG) Advisory Committee Meeting Notice

AGENCY: Office of Natural Resource Revenue, Interior.

ACTION: Meetings.

SUMMARY: This notice announces the next three meetings of the United States Extractive Industries Transparency Initiative (USEITI) Multi-Stakeholder Group (MSG) Advisory Committee.

DATES: The three meetings in 2016 will occur on March 8-9, 2016; June 28-29, 2016; and October 26-27, 2016; in Washington, DC, from 9:30 a.m. to 5:00 p.m. Eastern Time, unless we indicate otherwise at www.doi.gov/eiti/faca, where we will post agendas, meeting logistics, and meeting materials prior to the meeting.

ADDRESSES: The meetings will be held in the South Penthouse of the Stewart Lee Udall Department of the Interior Building located at 1849 C Street NW., Washington, DC 20240. Members of the public may attend in person or view documents and presentations under discussion via WebEx at http://bit.ly/1cR9W6t and listen to the proceedings at telephone number 1-888-455-2910 and International Toll number 210-839-8953 (passcode: 7741096).

FOR FURTHER INFORMATION CONTACT: Rosita Compton Christian, USEITI Secretariat; 1849 C Street NW., MS 4211; Washington, DC 20240. You may also contact the USEITI Secretariat via email at useiti@ios.doi.gov, by phone at 202-208-0272, or by fax at 202-513-0682.

SUPPLEMENTARY INFORMATION: The U.S. Department of the Interior established the USEITI Advisory Committee (Committee) on July 26, 2012, to serve as the USEITI multi-stakeholder group. More information about the Committee, including its charter, is available at www.doi.gov/eiti/faca.

Meeting Agendas: At the March 8-9, 2016, meeting, the MSG will discuss and decide scope; approaches to the Independent Administrator's (IA) recommendations regarding Reporting and Reconciliation; and the first phase contextual narrative updates for the 2016 USEITI Report. The June 28-29, 2016, meeting agenda will include the MSG discussion of the IA draft Reconciliation Report and the second phase contextual narrative updates for the 2016 USEITI Report. At the October 26-27, 2016, meeting, the MSG will discuss and approve the final additions to 2016 USEITI Report and the 2017 Annual Workplan. We will post the final agendas and materials for all meetings on the USEITI MSG Web site at www.doi.gov/eiti/faca. All Committee meetings are open to the public.

Whenever possible, we encourage those participating by telephone to gather in conference rooms in order to share teleconference lines. Please plan to dial into the meeting and/or log into WebEx at least 10-15 minutes prior to the scheduled start time in order to avoid possible technical difficulties. We will accommodate individuals with special needs whenever possible. If you require special assistance (such as an interpreter for the hearing impaired), please notify Interior staff in advance of the meeting at 202-208-0272 or via email at useiti@ios.doi.gov.

We will post the minutes from these proceedings on the USEITI MSG Web site at www.doi.gov/eiti/faca, and they will also be available for public inspection and copying at our office at the Stewart Lee Udall Department of the Interior Building in Washington, DC, by contacting Interior staff at useiti@ios.doi.gov or by telephone at 202-208-0272. For more information on USEITI, visit www.doi.gov/eiti.

Dated: January 21, 2016.
Gregory J. Gould,
Director, Office of Natural Resources Revenue.

[FR Doc. 2016-02641 Filed 2-9-16; 8:45 am]

BILLING CODE 4335-30-P